DEPARTMENT OF ENERGY

Federal Energy Regulatory Commission

[Docket No. RP02-356-003]

Canyon Creek Compression Company; Notice of Compliance Filing

July 3, 2003.

Take notice that on June 30, 2003, Canyon Creek Compression Company (Canyon) tendered for filing to become part of its FERC Gas Tariff, Third Revised Volume No. 1, First Revised Sheet Nos. 199, 200 and 201, to be effective July 1, 2003.

Canyon states that the purpose of this filing is to implement the Stipulation and Agreement (Settlement) approved by the Commission by a letter order issued on May 23, 2003, in Docket Nos. RP02-356-000, et al. Canyon states that no tariff changes other than those required by the Settlement are reflected in this filing.

Canyon states that copies of the filing have been mailed to each person designated on the Commission's official service list in Docket No. RP02-356.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 14, 2003.

Linda Mitry,
Acting Secretary.

[FR Doc. 03-17499 Filed 7-9-03; 8:45 am]

BILLING CODE 6717-01-P